NATIONAL FOUNDATION ON THE ARTS AND THE HUMANITIES

Charter Renewal for Humanities Panel

AGENCY: The National Endowment for the Humanities.

ACTION: Notice of Charter Renewal for Humanities Panel.

SUMMARY: Under the provisions of the Federal Advisory Committee Act of 1972, 5 U.S.C. App. 2 (Pub. L. 92-463, 86 Stat. 770), as amended, the National Endowment for the Humanities (NEH) gives notice that the Charter for the Advisory Committee, Humanities Panel, was renewed for an additional two-year period on December 29, 2011.

The Chairman of NEH has determined that the renewal of the Humanities Panel is necessary and in the public interest in connection with the performance of duties imposed upon the Chairman of NEH by the Federal Advisory Committee Act of 1972, 5 U.S.C. App. 3(2) (Pub. L. 92-463, 86 Stat. 770), as amended, and Section 10(a)(4) of the National Foundation on the Arts and the Humanities Act of 1965, 20 U.S.C. 959(a)(4), as amended.

FOR FURTHER INFORMATION CONTACT: Lisette Voyatzis, Committee Management Officer, 1100 Pennsylvania Avenue NW., Room 529, Washington, DC 20506. Telephone: (202) 606-8322, facsimile (202) 606-8600, or email at gencounsel@neh.gov. Hearing-impaired individuals are advised that information on this matter may be obtained by contacting the NEH's TDD terminal on (202) 606-8282.

Lisette Voyatzis,
Committee Management Officer.

[FR Doc. 2012-504 Filed 1-12-12; 8:45 am]

BILLING CODE 7536-01-P